DEPARTMENT OF THE INTERIOR

Office of the Secretary

[DR.5A311.IA000514]

Secretarial Commission on Indian Trust Administration and Reform

AGENCY: Office of the Secretary, Interior.

ACTION: Notice of meeting.

SUMMARY: The Secretarial Commission on Indian Trust Administration and Reform (the Commission) will hold a public webinar meeting on December 10, 2013. Because of delays from the Federal government shutdown, the Commission report and recommendations will be discussed and voted on during the December 10 public webinar, and time will be allowed to take public comments.

DATES: The Commission's public webinar meeting will begin at 11 a.m. and end at 1 p.m. Eastern Time on December 10, 2013. Members of the public who wish to participate should register by December 9, 2013 (see SUPPLEMENTARY INFORMATION for registration instructions).

FOR FURTHER INFORMATION CONTACT: The Designated Federal Official, Sarah Harris, Chief of Staff to the Assistant Secretary—Indian Affairs, Department of the Interior, 1849 C Street NW., Room 3071, Washington, DC 20240; or email to trustcommission@ios.doi.gov

SUPPLEMENTARY INFORMATION: The Secretarial Commission on Indian Trust Administration and Reform was established under Secretarial Order No. 3292, dated December 8, 2009. The Commission plays a key role in the Department's ongoing efforts to empower Indian nations and strengthen nation-to-nation relationships.

The Commission is completing a comprehensive evaluation of the Department's management and administration of the trust assets within a two-year period and will offer recommendations to the Secretary of the Interior on how to improve in the future. During the past two-year period, the Commission has been working to:

(1) Conduct a comprehensive evaluation of the Department's management and administration of the trust administration system;

(2) Review the Department's provision of services to trust beneficiaries;

(3) Review input from the public, interested parties, and trust beneficiaries and to conduct a number of regional listening sessions;

(4) Consider the nature and scope of necessary audits of the Department's trust administration system;

(5) Recommend options to the Secretary for improving the Department's management and administration of the trust administration system based on information obtained from these Commission activities, including whether any legislative or regulatory changes are necessary to permanently implement improvements; and

(6) Consider the provisions of the American Indian Trust Fund Management Reform Act of 1994 providing for termination of the Office of the Special Trustee for American Indians, and make recommendations to the Secretary regarding termination.

The Commission will hold its last public meeting by webinar on Tuesday, December 10, 2013. The following items will be on the agenda:

• Welcome, introductions, and agenda review;

• Review and approve Commission recommendations;

• Public comments; and

• Adjourn.

Members of the public who wish to participate in the December 10, 2013, public webinar meeting should register at the following Web site by December 9, 2013: https://www1.gotomeeting.com/register/704255144. Upon your registration, instructions on how to join the meeting will be sent to your email address.

Written comments may be sent to the Designated Federal Official listed in the FOR FURTHER INFORMATION CONTACT section above. To review all related material on the Commission's work, please refer to http://www.doi.gov/cobell/commission/index.cfm. All meetings are open to the public.

Dated: November 20, 2013.
Kevin K. Washburn,
Assistant Secretary—Indian Affairs.

[FR Doc. 2013-28236 Filed 11-22-13; 8:45 am]

BILLING CODE 4310-W7-P